SMALL BUSINESS ADMINISTRATION

[Disaster Declaration #12064 and #12065]

West Virginia Disaster Number WV-00015

AGENCY: Small Business Administration.

ACTION: Amendment 1.

SUMMARY: This is an amendment of the Presidential declaration of a major disaster for Public Assistance Only for the State of West Virginia (FEMA-1881-DR), dated 03/02/2010.

Incident: Severe winter storm and snowstorm.

Incident Period: 12/18/2009 through 12/20/2009.

Effective Date: 06/10/2010.

Physical Loan Application Deadline Date: 05/03/2010.

Economic Injury (EIDL) Loan Application Deadline Date: 12/02/2010

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of West Virginia, dated 03/02/2010, is hereby amended to include the following areas as adversely affected by the disaster.

Primary Counties: Jefferson, Mercer, Randolph.

All other information in the original declaration remains unchanged.

(Catalog of Federal Domestic Assistance Numbers 59002 and 59008)

James E. Rivera,
Associate Administrator, for Disaster Assistance.

[FR Doc. 2010-14901 Filed 6-18-10; 8:45 am]

BILLING CODE 8025-01-P